DEPARTMENT OF ENERGY

10 CFR Part 431

Energy Efficiency Program for Certain Commercial and Industrial Equipment

CFR Correction

This rule is being published by the Office of the Federal Register to correct an editorial or technical error that appeared in the most recent annual revision of the Code of Federal Regulations.

In Title 10 of the Code of Federal Regulations, Parts 200 to 499, revised as of January 1, 2024, make the following corrections:

1. Amend Appendix C to subpart R of part 431 in section 3.2.7.1, in the table, by removing the words “Table 1” and adding in its place, the words “Table C.4”.

2. Amend Appendix C1 to subpart R of part 431 by reinstating the heading and introductory text to section 3.2.5 before Table 15 to read as follows:

Appendix C1 to Subpart R of Part 431—Uniform Test Method for the Measurement of Net Capacity and AWEF2 of Walk-In Cooler and Walk-In Freezer Refrigeration Systems

* * * * *

3. * * *

3.2 * * *

3.2.5 Test Operating Conditions for Two-Capacity Indoor Matched-Pair or Single-Packaged Refrigeration Systems

For two-capacity indoor medium-temperature matched-pair or single-packaged refrigeration systems, conduct tests using the test conditions specified in table 15 of this appendix. For two-capacity indoor low-temperature matched-pair or single-packaged refrigeration systems, conduct tests using the test conditions specified in table 16 of this appendix.

* * * * *

[FR Doc. 2024-30077 Filed 12-18-24; 8:45 am]

BILLING CODE 0099-10-P